ENVIRONMENTAL PROTECTION AGENCY

[FRL-7830-5]

Request for Applications for the National Environmental Education Advisory Council; Due Date: January 31, 2005

AGENCY: Environmental Protection Agency.

ACTION: Notice.

SUMMARY: Section 9(a) and (b) of the National Environmental Education Act of 1990 (Public Law 101-619) mandates a National Environmental Education Advisory Council. The Advisory Council provides advice, consults with, and makes recommendations to the Administrator of the U.S. Environmental Protection Agency (EPA) on matters relating to the activities, functions, and policies of EPA under the Act. EPA is requesting nominations of candidates for membership on the Council. The Act requires that the Council be comprised of eleven (11) members appointed by the Administrator of EPA. Members represent a balance of perspectives, professional qualifications, and experience.

DATES: Applications to fill all of the identified vacancies on the Council for 2005 must be submitted no later than January 31, 2005. The application must include the following:

• Name/address/phone/e-mail of applicant;

• 1-2 page resume (Please detail environmental education experience.);

• Two (2) letters of support for the applicant;

• One (1) page statement by the applicant on his/her personal perspective on environmental education. This must not exceed one (1) page.

Please note that meetings will be held subject to availability of funds.

ADDRESSES: Submit nominations to Ginger Potter, Designated Federal Official, Office of Environmental Education, Office of Public Affairs (1704A) U.S. EPA, 1200 Pennsylvania Ave., NW., Washington, DC 20460.

FOR FURTHER INFORMATION CONTACT: Ginger Potter at the above address, or call (202) 564-0453; E-mail address: potter.ginger@epa.gov.

SUPPLEMENTARY INFORMATION: The Act specifies that members must represent the following:

• Primary and secondary education (one of whom shall be a classroom teacher)—two members;

• Colleges and universities—two members; Not-for-profit organizations involved in environmental education—two members;

• State departments of education and natural resources—two members;

• Business and industry—two members;

• Senior Americans—one member.

Members are chosen to represent various geographic regions of the country, and the Council strives for a diverse representation. The professional backgrounds of Council members should include education, science, policy, or other appropriate disciplines. Each member of the Council shall hold office for a one (1) to three (3) year period. Members are expected to participate in up to two (2) meetings per year and monthly or more conference calls per year. Members of the Council shall receive compensation and allowances, including travel expenses, at a rate fixed by the Administrator.

As of January 1, 2005, there will be five (5) vacancies on the Advisory Council that must be filled:

• Business and Industry—one vacancy (2005-2008);

• College and University—two vacancies (2005-2008);

• I11sbull State Department of Education'one vacancy (2005-2008);

• Primary and Secondary Education—one vacancy (2005-2008);

EPA particularly seeks candidates with demonstrated experience and/or knowledge in any of the following environmental education issue areas:

• Integrating environmental education into state and local education reform and improvement;

• State, local and tribal level capacity building;

• Cross-sector partnerships; leveraging resources for environmental education;

• Design and implementation of environmental education research

• Professional development for teachers and other education professionals; and

• Targeting under-represented audiences, including low-income and multi-cultural audiences, senior citizens, and other adults.

Additional Considerations:

The Council is looking for individuals who demonstrate the following:

• Ability to make the time commitment;

• Strong leadership skills;

• Strong analytical and writing skills;

• Ability to stand apart and evaluate programs in an unbiased fashion;

• Team players;

• Conviction to follow-through and to meet deadlines;

• Ability to review items on short notice.

The Council provides the Administrator with advice and recommendations on EPA implementation of the National Environmental Education Act. In general, the Act is designed to increase public understanding of environmental issues and problems, and to improve the training of environmental education professionals. EPA will achieve these goals, in part, by awarding grants and/or establishing partnerships with other Federal agencies, state and local education and natural resource agencies, not-for-profit organizations, universities, and the private sector to encourage and support environmental education and training programs. The Council is also responsible for preparing a national biennial report to Congress that will describe and assess the extent and quality of environmental education, discuss major obstacles to improving environmental education, and identify the skill, education, and training needs for environmental professionals.

Dated: October 15, 2004.
CeCe Kremer,
Deputy Associate Administrator, Office of Public Affairs.

[FR Doc. 04-24043 Filed 10-26-04; 8:45 am]

BILLING CODE 6560-50-P